DEPARTMENT OF HEALTH AND HUMAN SERVICES

Indian Health Service

National Urban Indian Behavioral Health Awareness

Announcement Type: New/Competing Continuation.

Funding Announcement Number: HHS-2020-IHS-UIHP3-0001.

Assistance Listing (Catalog of Federal Domestic Assistance or CFDA) Number: 93.193.

Key Dates

Application Deadline Date: December 21, 2020.

Earliest Anticipated Start Date: January 4, 2021.

I. Funding Opportunity Description

Statutory Authority

The Indian Health Service (IHS) is accepting applications for a cooperative agreement for Urban Indian Behavioral Health. This program is authorized under: Snyder Act, codified at 25 U.S.C. 13; the Transfer Act, codified at 42 U.S.C. 2001; the Consolidated Appropriations Act, 2020, Public Law 116-94, 133 Stat. 2534 (2020). This program is described in the Catalog of Federal Domestic Assistance (CFDA) under 93.193.

Background

The Office of Clinical and Preventive Services, Division of Behavioral Health (DBH) serves as the primary source of national advocacy, policy development, management and administration of behavioral health, alcohol and substance abuse, and family violence prevention programs. Working in partnership with Tribes, Tribal organizations, and Urban Indian Organizations (UIO), DBH coordinates national efforts to share knowledge and build capacity through the development and implementation of evidence/practice based and cultural-based practices in Indian Country.

Purpose

The purpose of this IHS program is to increase the awareness, visibility, advocacy, and education for behavioral health issues on a national scale and in the interest of improving urban Indian health care. This program is in alignment with the 2019-2023 IHS Strategic Plan Goal 1: To ensure that comprehensive, culturally appropriate personal and public health services are available and accessible to American Indian and Alaska Native (AI/AN) people, Objective 1.2: Build, strengthen, and sustain collaborative relationships; and Goal 2: To promote excellence and quality through innovation of the Indian health system into an optimally performing organization, Objective 2.2: Provide care to better meet the health care needs of American Indian and Alaska Native communities. Urban Indian Organizations are defined by 25 U.S.C. 1603(29) as a nonprofit corporate body situated in an urban center, governed by an urban Indian controlled board of directors, and providing for the maximum participation of all interested Indian groups and individuals, which body is capable of legally cooperating with other public and private entities for the purpose of performing the activities describes in 25 U.S.C. 1653(a). The awardee's activities funded under this cooperative agreement must be intended to support all organizations that meet the statutory definition of UIO.

Pre-Conference Grant Requirements

The awardee is required to comply with the “HHS Policy on Promoting Efficient Spending: Use of Appropriated Funds for Conferences and Meeting Space, Food, Promotional Items, and Printing and Publications,” dated January 23, 2015 (Policy), as applicable to conferences funded by grants and cooperative agreements. The Policy is available at https://www.hhs.gov/grants/contracts/contract-policies-regulations/efficient-spending/index.html?language=es.

The awardee is required to:

Provide a separate detailed budget justification and narrative for each conference anticipated. The cost categories to be addressed are as follows: (1) Contract/Planner, (2) Meeting Space/Venue, (3) Registration website, (4) Audio Visual, (5) Speakers Fees, (6) Non-Federal Attendee Travel, (7) Registration Fees, (8) Other (explain in detail and cost breakdown). For additional questions please contact Sarah Tillman at (301) 605-3504 or email her at sarah.tillman@ihs.gov.

II. Award Information

Funding Instrument

Cooperative Agreement.

Estimated Funds Available

The total funding identified for fiscal year (FY) 2020 is approximately $75,000. The funding available for competing and subsequent continuation award issued under this announcement is subject to the availability of appropriations and budgetary priorities of the Agency. The IHS is under no obligation to make awards that are selected for funding under this announcement.

Anticipated Number of Awards

One award will be issued under this program announcement.

Project Period

The project period is for three years.

Cooperative Agreement

Cooperative agreements awarded by the Department of Health and Human Services (HHS) are administered under the same policies as a grant. However, the funding agency, IHS, is required to have substantial programmatic involvement in the project during the entire award segment. Below is a detailed description of the level of involvement from IHS.

Substantial Involvement Description for Cooperative Agreement

IHS Programmatic Involvement

The IHS assigned program official will monitor the overall progress of the awardee's execution of the requirements of the award noted below as well as their adherence to the terms and conditions of the cooperative agreements. This includes providing guidance for required reports, developing tools and other products, interpreting program findings, assisting with evaluations, and overcoming any difficulties or performance issues encountered. The IHS assigned program official must approve all presentations, electronic content, mass emails, and other materials developed by awardee pursuant to this award and any supplemental award prior to the presentation or dissemination of such materials to any party.

III. Eligibility Information

1. Eligibility

To be eligible for this “New/Competing Continuation Announcement” an eligible applicant must be a 501(c)(3) organization that has demonstrated expertise as follows:

• Representing urban Indians and providing a variety of services to urban Indians and Federal agencies with an established major role in focusing attention on urban Indian health care needs.

• Promoting and supporting health education for urban Indians and coordinating efforts to inform urban Indians of Federal decisions that affect the improvement of Indian health care.

• Administering national health policy and health programs.

• Maintaining a national AI/AN constituency and clearly supporting critical services and activities within the IHS mission of improving the quality of health care for AI/AN people.

• Supporting improved healthcare in Indian Country.

Note: Please refer to Section IV.2 (Application and Submission Information/Subsection 2, Content and Form of Application Submission) for additional proof of applicant status documents required, such as Tribal Resolutions, proof of non-profit status, etc.

2. Cost Sharing or Matching

The IHS does not require matching funds or cost sharing for grants or cooperative agreements.

3. Other Requirements

Applications with budget requests that exceed the highest dollar amount outlined under Section II Award Information, Estimated Funds Available, or exceed the Period of Performance outlined under Section II Award Information, Period of Performance, will be considered not responsive and will not be reviewed. The Division of Grants Management (DGM) will notify the applicant.

Proof of Non-Profit Status

Organizations claiming non-profit status must submit a current copy of the 501(c)(3) Certificate with the application.

IV. Application and Submission Information

1. Obtaining Application Materials

The application package and detailed instructions for this announcement can be found at http://www.Grants.gov.

Please direct questions regarding the application process to Mr. Paul Gettys at (301) 443-2114 or (301) 443-5204.

2. Content and Form Application Submission

The applicant must include the project narrative as an attachment to the application package. Mandatory documents for all applicants include:

• Abstract (one page) summarizing the project.

• Application forms:

1. SF-424, Application for Federal Assistance.

2. SF-424A, Budget Information—Non-Construction Programs.

3. SF-424B, Assurances—Non-Construction Programs.

• Project Narrative (not to exceed 10 pages). See Section IV.2.A Project Narrative for instructions.

1. Background information on the organization.

2. Proposed scope of work, objectives, and activities that provide a description of what applicant plans to accomplish.

• Time Frame (one page).

• Budget Justification and Narrative (not to exceed 4 pages). See Section IV.2.B Budget Narrative for instructions.

• Letters of Support from organization's Board of Directors.

• 501(c)(3) Certificate (if applicable).

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required in order to receive IDC).

• Organizational Chart (optional).

• Documentation of current Office of Management and Budget (OMB) Financial Audit (if applicable).

Acceptable forms of documentation include:

1. Email confirmation from Federal Audit Clearinghouse (FAC) that audits were submitted; or

2. Face sheets from audit reports. Applicants can find these on the FAC website: https://harvester.census.gov/facdissem/Main.aspx.

Public Policy Requirements

All Federal public policies apply to IHS grants and cooperative agreements with the exception of the Discrimination policy.

Requirements for Project and Budget Narratives

A. Project Narrative: This narrative should be a separate document that is no more than 10 pages and must: (1) Have consecutively numbered pages; (2) use black font 12 points or larger; (3) be single-spaced; (4) and be formatted to fit standard letter paper (8-1/2 x 11 inches).

Be sure to succinctly answer all questions listed under the evaluation criteria (refer to Section V.1, Evaluation Criteria) and place all responses and required information in the correct section noted below or they will not be considered or scored. If the narrative exceeds the page limit, the application will be considered not responsive and not be reviewed. The 10-page limit for the narrative does not include the work plan, standard forms, Tribal Resolutions, table of contents, budget, budget justifications, narratives, and/or other appendix items.

There are three parts to the narrative:

Part A—Program Information;

Part B—Program Planning and Evaluation; and

Part C—Program Report.

See below for additional details about what must be included in the narrative. The page limitations below are for each narrative and budget submitted.

Part A: Program Information (Limit—2 Pages)

Need for Assistance

Describe the organization's current behavioral health program activities, how long the organization has been operating, and how the organization has determined it has the administrative infrastructure to support the cooperative agreement award activities outlined in this announcement. This section must succinctly answer the questions listed under the evaluation criteria listed in Section V.1.A. Need for Assistance.

Part B: Program Planning and Evaluation (Limit—6 Pages)

Program Plan and Approach

Describe fully and clearly the direction the organization plans to take, including how it plans to demonstrate raising the awareness and visibility of behavioral health issues and deliver each activity required under the cooperative agreement. Include proposed timelines for activities. This section must succinctly answer the questions listed under the evaluation criteria listed in Section V.1.B. Program Plan and Approach.

Program Evaluation

Describe fully and clearly the improvements that will be made by the organization to raise the awareness and visibility of behavioral health issues among urban Indians. Include how the grantee will provide an evaluation of their activities, demonstrate impact, and convey accomplishments. This section must succinctly answer the questions listed under the evaluation criteria listed in Section V.1.C. Program Evaluation.

Part C: Program Report (Limit—2 Pages)

Organizational Capabilities, Key Personnel, and Qualifications

Describe your organization's significant program activities and accomplishments over the past five years associated with the outlined goals under the Grantee Cooperative Agreement Award Activities (refer to Section V.1 B). This section must succinctly answer the questions listed under the evaluation criteria listed in Section V.1.D. Organizational Capabilities, Key Personnel, and Qualifications.

B. Budget Narrative (Limit—4 Pages)

Provide a budget narrative that explains the amounts requested for each line item of the budget. The budget narrative should specifically describe how each item will support the achievement of proposed objectives. Be very careful about showing how each item in the “Other” category is justified. For subsequent budget years, the narrative should highlight the changes from year 1 or clearly indicate that there are no substantive budget changes during the period of performance. Do NOT use the budget narrative to expand the project narrative.

3. Submission Dates and Times

Applications must be submitted electronically through Grants.gov by 11:59 p.m. Eastern Daylight Time (EDT) on the Application Deadline Date. Any application received after the application deadline will not be accepted for review. Grants.gov will notify the applicant via email if the application is rejected. If technical challenges arise and assistance is required with the application process, contact Grants.gov Customer Support (see contact information at https://www.grants.gov). If problems persist, contact Mr. Paul Gettys (Paul.Gettys@ihs.gov), Acting Director, DGM, by telephone at (301) 443-2114 or (301) 443-5204. Please be sure to contact Mr. Gettys at least ten days prior to the application deadline. Please do not contact the DGM until you have received a Grants.gov tracking number. In the event you are not able to obtain a tracking number, call the DGM as soon as possible.

IHS will not acknowledge receipt of applications.

4. Intergovernmental Review

Executive Order 12372 requiring intergovernmental review is not applicable to this program.

5. Funding Restrictions

• Pre-award costs are allowable up to 90 days before the start date of the award provided the costs are otherwise allowable if awarded. Pre-award costs are incurred at the risk of the applicant.

• The available funds are inclusive of direct and appropriate indirect costs.

• Only one cooperative agreement will be awarded per applicant.

6. Electronic Submission Requirements

All applications must be submitted via Grants.gov. Please use the https://www.Grants.gov website to submit an application. Find the application by selecting the “Search Grants” link on the homepage. Follow the instructions for submitting an application under the Package tab. No other method of application submission is acceptable.

If the applicant cannot submit an application through Grants.gov, a waiver must be requested. Prior approval must be requested and obtained from Mr. Paul Gettys, Acting Director, DGM. A written waiver request must be sent to GrantsPolicy@ihs.gov with a copy to Paul.Gettys@ihs.gov. The waiver request must: (1) Be documented in writing (emails are acceptable) before submitting an application by some other method, and (2) include clear justification for the need to deviate from the required application submission process.

Once the waiver request has been approved, the applicant will receive a confirmation of approval email containing submission instructions. A copy of the written approval must be included with the application that is submitted to the DGM. Applications that are submitted without a copy of the signed waiver from the Acting Director of the DGM will not be reviewed. The Grants Management Officer of the DGM will notify the applicant via email of this decision. Applications submitted under waiver must be received by the DGM no later than 5:00 p.m., EDT, on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to twenty working days.

• Please follow the instructions on Grants.gov to include additional documentation that may be requested by this funding announcement.

• Applicants must comply with any page limits described in this funding announcement.

• After submitting the application, the applicant will receive an automatic acknowledgment from Grants.gov that contains a Grants.gov tracking number. IHS will not notify the applicant that the application has been received.

Dun and Bradstreet (D&B) Data Universal Numbering System (DUNS) Applicants and grantee organizations are required to obtain a DUNS number and maintain an active registration in the SAM database. The DUNS number is a unique 9-digit identification number provided by D&B that uniquely identifies each entity. The DUNS number is site specific; therefore, each distinct performance site may be assigned a DUNS number. Obtaining a DUNS number is easy, and there is no charge. To obtain a DUNS number, please access the request service through https://fedgov.dnb.com/webform, or call (866) 705-5711. The Federal Funding Accountability and Transparency Act of 2006, as amended (“Transparency Act”), requires all HHS recipients to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with SAM must have a DUNS number first, then access the SAM online registration through the SAM home page at https://www.sam.gov/SAM/ (U.S. organizations will also need to provide an Employer Identification Number from the Internal Revenue Service that may take an additional 2-5 weeks to become active). Please see SAM.gov for details on the registration process and timeline. Registration with the SAM is free of charge, but can take several weeks to process. Applicants may register online at https://www.sam.gov/SAM/.

Additional information on implementing the Transparency Act, including the specific requirements for DUNS and SAM, are available on the DGM Grants Management, Policy Topics web page: https://www.ihs.gov/dgm/policytopics/.

V. Application Review Information

Weights assigned to each section are noted in parentheses. The 10-page project narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 possible points. Points are assigned as follows:

1. Criteria

A. Introduction and Need for Assistance (10 Points)

1. Describe the needs, or problems, the organization is currently addressing.

2. Describe the current unmet needs/gaps in awareness of behavioral health in urban Indian communities, and the potential impact of not having a national program with this scope.

3. Describe how this cooperative agreement would benefit the mission of the organization and help achieve the mission of the IHS, as it relates to behavioral health.

4. Provide examples of current, or previous, related experience (grant funded or not) that supports the project and justifies the approach.

B. Project Objective(s), Work Plan and Approach (40 Points)

Describe the purpose of the proposed project, including a clear statement of the project goal(s). The proposed project narrative is required to address how the organization will accomplish all six required activities listed below.

1. Facilitate a national forum such as a Behavioral Health Urban Indian Listening Session where concerns and suggestions related to behavioral health care policy, service delivery, and program development can be heard from all urban Indian organizations.

2. Provide urban Indian leadership by participating as active members and representing Urban Indian Health Programs for the National Action Alliance for Suicide Prevention's American Indian/Alaska Native Task Force.

3. Increase awareness and visibility of urban Indian behavioral health issues through representation and participation at appropriate national conferences.

4. Provide culturally competent educational and technical assistance on strategic planning and grant writing to increase the capacity of urban Indian organizations.

5. Develop and maintain comprehensive information on urban Indian organizations. Disseminate information on behavioral health programs, best practices, service delivery, quality improvement, and strategies to all urban Indian organizations through such means as an e-newsletter, website, traditional media or other social media platforms.

6. Develop a quality improvement process, including appropriate evaluation tools to ensure the information developed and disseminated through the project is appropriate, responsive, and useful for addressing the behavioral health needs of urban Indian communities.

C. Program Evaluation (10 Points)

1. Describe plans to monitor activities such as the success indicators and how the applicant will measure the degree to which objectives have been met that demonstrate progress towards program outcomes and inform future program decisions over the 3-year project period.

2. Describe both process and outcome indicators, where possible:

a. Process examples may include activities such as, but not limited to, delivering X number of training workshops in the urban centers of the country, or producing a technical manual for a grant writing workshop. Note: 25 U.S.C. 1603(27). The term “urban center” means any community which has a sufficient urban Indian population with unmet health needs to warrant assistance under subchapter IV, as determined by the HHS Secretary.

b. Outcome examples may include measures such as, but not limited to, changes in awareness of behavioral health issues impacting urban Indians, or changes in urban Indian participation in suicide prevention activities (for example, increased Hope for Life participation).

3. Describe the data to be collected and the proposed method for collecting it (surveys, questionnaires, observations, focus groups) and how you will use the data to answer evaluation questions.

4. Identify which position(s) will be responsible for collecting data, measuring progress, and reporting.

5. Describe methods for analyzing the data collected during the cooperative agreement in order to produce evaluation findings.

D. Organizational Capabilities, Key Personnel and Qualifications (25 Points)

1. Describe the management capability and experience of the applicant organization, and other participating organizations, in administering similar grants and projects.

2. Discuss the organization's experience and capacity to provide culturally appropriate/competent services to urban Indian communities across the nation.

3. Describe the resources available for the proposed project (e.g., facilities, equipment, IT systems, and financial management systems).

4. Describe how program continuity will be maintained if/when there is a change in the operational environment (e.g., staff turnover, change in project leadership, change in board membership or elected leaders) to ensure stability over the life of the cooperative agreement to achieve the project's objectives.

5. Provide a complete list of staff positions for the project, including the Project Director (suggested at a minimum of 0.75 FTE) and other key personnel, showing the role of each and their level of effort and qualifications. Describe any strategies to recruit new staff, as needed.

E. Categorical Budget and Budget Justification (15 Points)

1. Include a line item budget for all expenditures and cost categories, identifying reasonable and allowable costs necessary to accomplish the activities outlined in the project narrative. The budget expenditures should correlate with the scope of work described in the project narrative.

2. Provide a narrative justification of the budget line items, as well as a description of existing resources and other support the applicant expects to receive for the proposed project. Other support is defined as funds or resources, whether Federal, non-Federal or institutional, in direct support of activities through fellowships, gifts, prizes, in-kind contributions or non-Federal means. (This should correspond to Item #18 on the applicant's SF-424, Estimated Funding, and SF-424A Budget Information, Section C Non-Federal resources.)

Multi-Year Project Requirements

Applications must include a brief project narrative and budget (one additional page per year) addressing the developmental plans for each additional year of the project. This attachment will not count as part of the project narrative or the budget narrative.

Additional documents can be uploaded as Appendix Items in Grants.gov.

• Work plan, logic model and/or time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (for example, data tables, relevant news articles).

2. Review and Selection

Each application will be prescreened for eligibility and completeness as outlined in the funding announcement. Applications that meet the eligibility criteria shall be reviewed for merit by the Objective Review Committee (ORC) based on evaluation criteria. Incomplete applications and applications that are not responsive to the administrative thresholds will not be referred to the ORC and will not be funded. The applicant will be notified of this determination. Applicants must address all program requirements and provide all required documentation.

3. Notifications of Disposition

All applicants will receive an Executive Summary Statement from the IHS DBH within 30 days of the conclusion of the ORC outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the grant, the terms and conditions of the award, the effective date of the award, and the budget/project period. Each entity approved for funding must have a user account in GrantSolutions in order to retrieve the NoA. Please see the Agency Contacts list in Section VII for the systems contact information.

B. Approved but Unfunded Applications

Approved applications not funded due to lack of available funds will be held for one year. If funding becomes available during the course of the year, the application may be reconsidered.

Note: Any correspondence other than the official NoA executed by an IHS grants management official announcing to the project director that an award has been made to their organization is not an authorization to implement their program on behalf of the IHS.

VI. Award Administration Information

1. Administrative Requirements

Cooperative agreements are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

2. Indirect Costs

This section applies to all recipients that request reimbursement of indirect costs (IDC) in their application budget. In accordance with HHS Grants Policy Statement, Part II-27, IHS requires applicants to obtain a current IDC rate agreement, and submit it to DGM, prior to DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Available funds are inclusive of direct and appropriate indirect costs. Approved indirect funds are awarded as part of the award amount, and no additional funds will be provided.

Generally, IDC rates for IHS grantees are negotiated with the Division of Cost Allocation (DCA) https://rates.psc.gov/ or the Department of the Interior (Interior Business Center) https://ibc.doi.gov/ICS/tribal. For questions regarding the indirect cost policy, please call the Grants Management Specialist listed under “Agency Contacts” or the main DGM office at (301) 443-5204.

3. Reporting Requirements

The awardee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the awardee organization or the individual responsible for preparation of the reports. Per DGM policy, all reports are required to be submitted electronically by attaching them as a “Grant Note” in GrantSolutions. Personnel responsible for submitting reports will be required to obtain a login and password for GrantSolutions. Please see the Agency Contacts list in Section VII for the systems contact information.

The reporting requirements for this program are noted below.

A. Progress Reports

Program progress reports are required annually, within 30 days after the budget period ends (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Report (FFR or SF-425), Cash Transaction Reports are due 30 days after the close of every calendar quarter to the Payment Management Services, HHS at https://pms.psc.gov. The applicant is also requested to upload a copy of the FFR (SF-425) into our grants management system, GrantSolutions. Failure to submit timely reports may result in adverse award actions blocking access to funds.

Grantees are responsible and accountable for accurate information being reported on all required reports: The Progress Reports and Federal Financial Report.

C. Post Conference Grant Reporting

The following requirements were enacted in Section 3003 of the Consolidated Continuing Appropriations Act, 2013, Public Law 113-6, 127 Stat. 198, 435 (2013), and; Office of Management and Budget Memorandum M-17-08, Amending OMB Memorandum M-12-12: All HHS/IHS awards containing grants funds allocated for conferences will be required to complete a mandatory post award report for all conferences. Specifically: The total amount of funds provided in this award/cooperative agreement that were spent for “Conference X”, must be reported in final detailed actual costs within 15 calendar days of the completion of the conference. Cost categories to address should be: (1) Contract/Planner, (2) Meeting Space/Venue, (3) Registration website, (4) Audio Visual, (5) Speakers Fees, (6) Non-Federal Attendee Travel, (7) Registration Fees, and (8) Other.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards. IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: (1) The period of performance start date was October 1, 2010 or after, and (2) the primary awardee will have a $25,000 sub-award obligation dollar threshold during any specific reporting period will be required to address the FSRS reporting.

For the full IHS award term implementing this requirement and additional award applicability information, visit the DGM Grants Policy website at https://www.ihs.gov/dgm/policytopics/.

E. Compliance With Executive Order 13166 Implementation of Services Accessibility Provisions for All Grant Application Packages and Funding Opportunity Announcements

Recipients of Federal financial assistance (FFA) from HHS must administer their programs in compliance with Federal civil rights laws that prohibit discrimination on the basis of race, color, national origin, disability, age and, in some circumstances, religion, conscience, and sex. This includes ensuring programs are accessible to persons with limited English proficiency. The HHS Office for Civil Rights provides guidance on complying with civil rights laws enforced by HHS. https://www.hhs.gov/civil-rights/for-providers/provider-obligations/index.html and http://www.hhs.gov/ocr/civilrights/understanding/section1557/index.html.

• Recipients of FFA must ensure that their programs are accessible to persons with limited English proficiency. HHS provides guidance to recipients of FFA on meeting their legal obligation to take reasonable steps to provide meaningful access to their programs by persons with limited English proficiency. Please see https://www.hhs.gov/civil-rights/for-individuals/special-topics/limited-english-proficiency/fact-sheet-guidance/index.html and https://www.lep.gov. For further guidance on providing culturally and linguistically appropriate services, recipients should review the National Standards for Culturally and Linguistically Appropriate Services in Health and Health Care at https://minorityhealth.hhs.gov/omh/browse.aspx?lvl=2&lvlid=53.

• Recipients of FFA also have specific legal obligations for serving qualified individuals with disabilities. Please see http://www.hhs.gov/ocr/civilrights/understanding/disability/index.html.

• HHS funded health and education programs must be administered in an environment free of sexual harassment. Please see https://www.hhs.gov/civil-rights/for-individuals/sex-discrimination/index.html; https://www2.ed.gov/about/offices/list/ocr/docs/shguide.html; and https://www.eeoc.gov/eeoc/publications/fs-sex.cfm.

• Recipients of FFA must also administer their programs in compliance with applicable Federal religious nondiscrimination laws and applicable Federal conscience protection and associated anti-discrimination laws. Collectively, these laws prohibit exclusion, adverse treatment, coercion, or other discrimination against persons or entities on the basis of their consciences, religious beliefs, or moral convictions. Please see https://www.hhs.gov/conscience/conscience-protections/index.html and https://www.hhs.gov/conscience/religious-freedom/index.html.

Please contact the HHS Office for Civil Rights for more information about obligations and prohibitions under Federal civil rights laws at https://www.hhs.gov/ocr/about-us/contact-us/index.html or call 1-800-368-1019 or TDD 1-800-537-7697.

F. Federal Awardee Performance and Integrity Information System (FAPIIS)

The IHS is required to review and consider any information about the applicant that is in the Federal Awardee Performance and Integrity Information System (FAPIIS), at https://www.fapiis.gov, before making any award in excess of the simplified acquisition threshold (currently $150,000) over the period of performance. An applicant may review and comment on any information about itself that a Federal awarding agency previously entered. IHS will consider any comments by the applicant, in addition to other information in FAPIIS in making a judgment about the applicant's integrity, business ethics, and record of performance under Federal awards when completing the review of risk posed by applicants as described in 45 CFR 75.205.

As required by 45 CFR part 75 Appendix XII of the Uniform Guidance, non-Federal entities (NFEs) are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, the IHS must require a non-Federal entity or an applicant for a Federal award to disclose, in a timely manner, in writing to the IHS or pass-through entity all violations of Federal criminal law involving fraud, bribery, or gratuity violations potentially affecting the Federal award.

Submission is required for all applicants and recipients, in writing, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Paul Gettys, Acting Director, 5600 Fishers Lane, Mail Stop: 09E70, Rockville, MD 20857, (Include “Mandatory Grant Disclosures” in subject line), Office: (301) 443-5204, Fax: (301) 594-0899, Email: Paul.Gettys@ihs.gov.

AND

U.S. Department of Health and Human Services, Office of Inspector General, ATTN: Mandatory Grant Disclosures, Intake Coordinator, 330 Independence Avenue SW, Cohen Building, Room 5527, Washington, DC 20201, URL: https://oig.hhs.gov/fraud/report-fraud/ (Include “Mandatory Grant Disclosures” in subject line), Fax: (202) 205-0604 (Include “Mandatory Grant Disclosures” in subject line) or Email: MandatoryGranteeDisclosures@oig.hhs.gov.

Failure to make required disclosures can result in any of the remedies described in 45 CFR 75.371 Remedies for noncompliance, including suspension or debarment (see 2 CFR parts 180 & 376).

VII. Agency Contacts

1. Questions on the programmatic issues may be directed to: Tamara James, Ph.D., Division of Behavioral Health, 5600 Fishers Lane, Mail Stop: 08N34A, Rockville, MD 20857, Phone: (301) 443-2038, Fax: (301) 594-6213, tamara.james@ihs.gov.

2. Questions on grants management and fiscal matters may be directed to: Donald Gooding, Grants Management Specialist, 5600 Fishers Lane, Mail Stop: 09E70, Rockville, MD 20857, Phone: (301) 443-2298, Fax: (301) 594-0899, Email: Gooding.Donald@ihs.gov.

3. Questions on systems matters may be directed to: Paul Gettys, Acting Director, DGM, 5600 Fishers Lane, Mail Stop: 09E70, Rockville, MD 20857, Phone: (301) 443-2114; or the DGM main line (301) 443-5204, Fax: (301) 594-0899, Email: Paul.Gettys@ihs.gov.

VIII. Other Information

The Public Health Service strongly encourages all grant, cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Michael D. Weahkee,
RADM, Assistant Surgeon General, U.S. Public Health Service, Director, Indian Health Service.

[FR Doc. 2020-25642 Filed 11-19-20; 8:45 am]

BILLING CODE 4165-16-P